FEDERAL COMMUNICATIONS COMMISSION

[OMB 3060-1005]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before December 24, 2019. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION:

OMB Control Number: 3060-1005.

Title: Numbering Resource Optimization—Phase 3.

Form Number: N/A.

Type of Review: Extension of a currently approved collection.

Respondents: Business or other for-profit and State, Local, or Tribal Government.

Number of Respondents and Responses: 17 respondents; 32 responses.

Estimated Time per Response: 40-50 hours.

Frequency of Response: On occasion reporting requirement and third party disclosure requirement.

Obligation to Respond: Required to obtain or retain benefits. Statutory authority for this information collection is contained in 47 U.S.C. 153, 154, 201-205, 207-209, 218, 225-227, 251-252, 271, and 332.

Total Annual Burden: 830 hours.

Total Annual Cost: No cost.

Privacy Act Impact Assessment: No impact(s).

Nature and Extent of Confidentiality: The Commission is not requesting that respondents submit confidential information to the Commission. If the Commission requests respondents to submit information which respondents believe is confidential, respondents may request confidential treatment of such information pursuant to 47 CFR 0.459 of the Commission's rules.

Needs and Uses: The Commission established a safety valve to ensure that carriers experiencing rapid growth in a given market will be able to meet customer demand. States may use this safety valve to grant requests from carriers that demonstrate the following:

(1) The carrier will exhaust its numbering resources in a market or rate area within three months (in lieu of six months-to-exhaust requirement); and

(2) Projected growth is based on the carrier's actual growth in the market or rate area, or in the carrier's actual growth in a reasonably comparable market, but only if that projected growth varies no more than 15 percent from historical growth in the relevant market.

The Commission lifted the ban on service-specific and technology-specific overlays (collectively, specialized overlays or SOs), allowing state commissions seeking to implement SOs to request delegated authority to do so on a case-by-case basis. To provide further guidance to state commissions, the Commission set forth the criteria that each request for delegated authority to implement a SO should address. This will enable us to examine the feasibility of SOs in a particular area, and to determine whether the Commission's stated goals are likely to be met if the SO is implemented. Specifically, state commissions should also specifically address the following:

(1) The technologies or services to be included in the SO;

(2) The geographic area to be covered;

(3) Whether the SO will be transitional;

(4) When the SO will be implemented and, if a transitional SO is proposed, when the SO will become an all-services overlay;

(5) Whether the SO will include take-backs;

(6) Whether there will be 10-digit dialing in the SO and the underlying area code(s);

(7) Whether the SO and underlying area code(s) will be subject to rationing; and

(8) Whether the SO will cover an area in which pooling is taking place.

The Commission uses the information it collects to assist the state commissions in carrying out their delegated authority over numbering resources.

Federal Communications Commission.
Marlene Dortch,
Secretary, Office of the Secretary.

[FR Doc. 2019-23329 Filed 10-24-19; 8:45 am]

BILLING CODE 6712-01-P